DEPARTMENT OF ENERGY

Federal Energy Regulatory Commission

[Project No. 2299-075]

Don Pedro Hydroelectric Project: Turlock Irrigation District; Modesto Irrigation District; Supplement to Notice of Study Dispute Resolution Technical Conference

On March 16, 2012, the Commission issued a Notice of Dispute Resolution Process Schedule, Panel, Technical Conference, and Modified Filing Times for Panel Recommendations and Dispute Determination. The notice announced that the Don Pedro Study Dispute Resolution Panel's technical conference would be an all day meeting in Sacramento, California on April 17, 2012. The notice stated that further details would be supplied in a future notice. Below are the final meeting details:

a. Date and Time of Meeting: Tuesday, April 17, 2012. 9 a.m.-5 p.m.

b. Place: Holiday Inn, Sacramento-Capitol Plaza, 300 J Street, Sacramento, CA 95814, 916-446-0100.

c. FERC Contact: Stephen Bowler, Don Pedro Hydroelectric Project, Dispute Resolution Panel Chair, (202) 505-6861, stephen.bowler@ferc.gov.

d. Purpose of Meeting:

The purpose of the technical conference is for the disputing agencies, the applicant, and the Commission to provide the Panel with additional information necessary to evaluate the disputed studies. All local, state, and federal agencies, Indian tribes, and other interested parties are invited to attend the meeting as observers. The Panel may also request information or clarification on written submissions as necessary to understand the matters in dispute. The Panel will limit all input that it receives to the specific studies or information in dispute and will focus on the applicability of such studies or information to the study criteria stipulated in 18 CFR 5.9(b). If the number of participants wishing to speak creates time constraints, the Panel may, at its discretion, limit the speaking time for each participant.

e. Proposed Agenda:

The Panel will gather information on NMFS identified study requests 1-4 and 7-9 as being in dispute. Specifically, the disputed study requests are: Request 1—Effects of the Project and Related LaGrange Complex Facilities on Anadromous Fish; Request 2—Effects of the Project and Related Facilities Evaluated Through an Operations Model; Request 3—Effects of the Project and Related Activities on Fish Passage for Anadromous Fish; Request 4—Effects of the Project and Related Facilities Hydrology for Anadromous Fish: Magnitude, Timing, Duration, and Rate of Change; Request 7—Evaluation of the Upper Tuolumne Habitats for Anadromous Fish; Request 8—Salmon and Steelhead Full Life-Cycle Population Models; and Request 9—Effects of the Project and Related Facilities on Ecosystem/Marine-Derived Nutrients for Anadromous Fish.

Dated: April 2, 2012.
Kimberly D. Bose,
Secretary.

[FR Doc. 2012-8528 Filed 4-9-12; 8:45 am]

BILLING CODE 6717-01-P